DEPARTMENT OF ENERGY

[Docket No. 21-99-LNG]

Carib Energy (USA), LLC; Request for Amendment To Order Granting Blanket Authorization To Export Previously Imported Liquefied Natural Gas in ISO Containers by Vessel to Non-Free Trade Agreement Nations

AGENCY: Office of Fossil Energy and Carbon Management, Department of Energy.

ACTION: Notice of request.

SUMMARY: The Office of Fossil Energy and Carbon Management (FECM) of the Department of Energy (DOE) gives notice (Notice) of receipt of a Request for Amendment (Request), filed by Carib Energy (USA), LLC (Carib Energy) on September 7, 2023, and Supplemental Information Supporting Request for Export Authorization Amendment (Supplement) filed on September 21, 2023. Carib Energy is currently authorized to export liquefied natural gas (LNG) previously imported into the United States by vessel from foreign sources in a volume equivalent to 0.48 billion cubic feet (Bcf) of natural gas on a cumulative basis over a two-year period to countries in Central America, South America, and the Caribbean. Carib Energy requests an increase in its authorized export volume of previously imported foreign-sourced LNG from the equivalent of 0.48 Bcf to 1.4 Bcf on a cumulative basis, effective June 1, 2023, and continuing through the end of its export term, April 6, 2024. Carib Energy filed the Request and Supplement under the Natural Gas Act (NGA).

DATES: Protests, motions to intervene, or notices of intervention, as applicable, and written comments are to be filed as detailed in the Public Comment Procedures section no later than 4:30 p.m., Eastern time, October 23, 2023.

ADDRESSES:

Electronic Filing by Email (strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76), Office of the Assistant General Counsel for Energy Delivery and Resilience, Forrestal Building, Room 6D-033, 1000 Independence Avenue SW, Washington, DC 20585, (202) 586-9793, cassandra.bernstein@hq.doe.gov.

SUPPLEMENTARY INFORMATION:

Background: On December 20, 2021, in DOE/FECM Order No. 4772,¹ DOE authorized Carib Energy to export LNG previously imported from foreign sources in a volume equivalent to 0.48 Bcf of natural gas on a cumulative basis over a two-year period. Under this blanket order, Carib Energy is authorized to export the LNG in approved IMO7/TVAC-ASME LNG containers (ISO containers) loaded at the Crowley LNG Truck Loading Facility (Crowley Facility) located in Peñuelas, Puerto Rico,² and transported on ocean-going carriers or container vessels to any country in Central America, South America, or the Caribbean that has, or in the future develops, the capacity to import LNG via approved ISO containers on ocean-going carriers or container vessels. This includes both countries with which the United States has entered into a free trade agreement (FTA) requiring national treatment for trade in natural gas (FTA countries),³ and any other country with which trade is not prohibited by U.S. law or policy (non-FTA countries).⁴

¹ Carib Energy (USA) LLC, DOE/FECM Order No. 4772, Docket No. 21-99-LNG, Order Granting Blanket Authorization to Export Previously Imported Liquefied Natural Gas in ISO Containers By Vessel to Free Trade and Non-Free Trade Agreement Nations (Dec. 20, 2021).

² The Crowley Facility receives LNG that has been imported from foreign sources into Puerto Rico via the EcoElectrica LNG Terminal. See id. at 5.

³ 15 U.S.C. 717b(c). The United States currently has FTAs requiring national treatment for trade in natural gas with Australia, Bahrain, Canada, Chile, Colombia, Dominican Republic, El Salvador, Guatemala, Honduras, Jordan, Mexico, Morocco, Nicaragua, Oman, Panama, Peru, Republic of Korea, and Singapore. FTAs with Israel and Costa Rica do not require national treatment for trade in natural gas.

⁴ 15 U.S.C. 717b(a); see Carib Energy (USA) LLC, DOE/FECM Order No. 4772, at 18 (Ordering Paras. A & B).

Carib Energy's two-year blanket authorization under Order No. 4772 commenced on April 6, 2022, the date of first export under that authorization.⁵ Because the export authorization is effective (in relevant part) “for a two-year term beginning on . . . the date of first export,” ⁶ Carib Energy's export term under Order No. 4772 is effective through April 6, 2024.

⁵ See Carib Energy (USA) LLC, Notice of First Export of LNG, Docket No. 21-99-LNG (Apr. 6, 2022).

⁶ Carib Energy (USA) LLC, DOE/FECM Order No. 4772, at 18 (Ordering Para. A).

Request for Amendment of Non-FTA Portion of Order No. 4772: On September 7, 2023, Carib Energy filed its Request to amend Order No. 4772.⁷ Carib Energy provided additional information in its Supplement,⁸ filed on September 21, 2023. Carib Energy states that its ongoing exports of previously imported LNG to countries in the Caribbean (including to Barbados, a non-FTA country, and the Dominican Republic, a FTA country) have increased more rapidly than originally projected and recently exceeded the cumulative export volume authorized by Order No. 4772. Carib Energy further states that it anticipates exporting this previously imported LNG to Antigua (a non-FTA country) beginning in January 2024. Consequently, Carib Energy requests an amendment to Order No. 4772, increasing the overall level of LNG export volumes by 0.92 Bcf—from 0.48 Bcf to 1.4 Bcf on a cumulative basis—effective June 1, 2023, through April 6, 2024.

⁷ Carib Energy (USA), LLC, Request for Amendment—LNG Export Authorization (Order No. 4772, Docket No. 21-99-LNG), Docket No. 21-99-LNG (Sept. 7, 2023).

⁸ Carib Energy (USA), LLC, Supplemental Information Supporting Request for Export Authorization Amendment, Docket No. 21-99-LNG (Sept. 21, 2023).

Carib Energy asserts that this export of foreign-sourced LNG will continue to play a critical role in meeting the natural gas supply needs of Barbados and Antigua (as well as the Dominican Republic), and that no new construction will be required to accommodate the amended export volume.

This Notice applies only to the portion of the Request and Supplement seeking an amendment of Carib Energy's exports of previously imported LNG to the applicable non-FTA countries pursuant to NGA section 3(a).⁹ DOE will review the FTA portion of the Request and Supplement separately pursuant to NGA section 3(c).¹⁰

⁹ 15 U.S.C. 717b(a).

¹⁰ 15 U.S.C. 717b(c).

Additional details can be found in Carib Energy's Request and Supplement, posted on the DOE website at: https://www.energy.gov/fecm/articles/carib-energy-usa-llc-fe-dkt-no-21-99-lng.

DOE Evaluation

In reviewing Carib's Request and Supplement, DOE will consider any issues required by law or policy. DOE will consider domestic need for the natural gas, as well as any other issues determined to be appropriate, including whether the arrangement is consistent with DOE's policy of promoting competition in the marketplace by allowing commercial parties to freely negotiate their own trade arrangements. Parties that may oppose the Request and Supplement should address these issues and documents in their comments and/or protests, as well as other issues deemed relevant to the Request.

The National Environmental Policy Act (NEPA), 42 U.S.C. 4321 et seq., requires DOE to give appropriate consideration to the environmental effects of its proposed decisions. No final decision will be issued in this proceeding until DOE has met its NEPA responsibilities.

Public Comment Procedures

In response to this Notice, any person may file a protest, comments, or a motion to intervene or notice of intervention, as applicable. Interested parties will be provided 15 days from the date of publication of this Notice in which to submit comments, protests, motions to intervene, or notices of intervention.

Any person wishing to become a party to this proceeding evaluating Carib Energy's Request and Supplement must file a motion to intervene or notice of intervention. The filing of comments or a protest with respect to the Request and Supplement will not serve to make the commenter or protestant a party to this proceeding, although protests and comments received from persons who are not parties will be considered in determining the appropriate action to be taken on the Request and Supplement. All protests, comments, motions to intervene, or notices of intervention must meet the requirements specified by the regulations in 10 CFR part 590, including the service requirements.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers electronic filings. All filings must include a reference to “Docket No. 21-99-LNG” or “Carib Energy Request” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Request, Supplement, and any filed protests, motions to intervene, notices of interventions, and comments will also be available electronically on the DOE website at: www.energy.gov/fecm/regulation.

A decisional record on the Request and Supplement will be developed through responses to this Notice by parties, including the parties' written comments and replies thereto. Additional procedures will be used as necessary to achieve a complete understanding of the facts and issues. If an additional procedure is scheduled, notice will be provided to all parties. If no party requests additional procedures, a final Order may be issued based on the official record, including the Request, Supplement, and responses filed by parties pursuant to this Notice, in accordance with 10 CFR 590.316.

Signed in Washington, DC, on September 29, 2023.
Amy Sweeney,
Director, Office of Regulation, Analysis, and Engagement, Office of Resource Sustainability.

[FR Doc. 2023-22297 Filed 10-5-23; 8:45 am]

BILLING CODE 6450-01-P